FEDERAL COMMUNICATIONS COMMISSION

[FRS 16622]

Deletion of Items From March 31, 2020 Open Meeting

March 31, 2020.

The following items have been adopted by the Commission and deleted from the list of items scheduled for consideration at the Tuesday, March 31, 2020, Open Meeting. The items were previously listed in the Commission's Notice of Tuesday, March 24, 2020.

Item No. | Bureau | Subject
1 | WIRELINE COMPETITION | TITLE: Call Authentication Trust Anchor (WC Docket No. 17-97); Implementation of TRACED Act Section 6(a)—Knowledge of Customers by Entities with Access to Numbering Resources (WC Docket No. 20-67) SUMMARY: The Commission will consider a Report and Order and Further Notice of Proposed Rulemaking that would (1) adopt rules requiring originating and terminating voice service providers to implement the STIR/SHAKEN caller ID authentication framework in the Internet Protocol portions of their networks; and (2) propose additional measures to combat illegal spoofing, including measures to implement portions of the TRACED Act.
2 | MEDIA | TITLE: Rules Governing the Use of Distributed Transmission System Technologies (MB Docket No. 20-74); Authorizing Permissive Use of the “Next Generation” Broadcast Television Standard (GN Docket No. 16-142) SUMMARY: The Commission will consider a Notice of Proposed Rulemaking that would seek comment on whether to modify the Commission's rules governing the use of distributed transmission systems by broadcast television stations.
3 | MEDIA | TITLE: Significantly Viewed Stations (MB Docket No. 20-73); Modernization of Media Regulation Initiative (MB Docket No. 17-105) SUMMARY: The Commission will consider a Notice of Proposed Rulemaking that would seek comment on whether to update the methodology for determining whether a television broadcast station is “significantly viewed” in a community outside of its local market.
4 | MEDIA | TITLE: Revision of the Commission's Part 76 Review Procedures (MB Docket No. 20-70); Modernization of Media Regulation Initiative (MB Docket No. 17-105); Revision of the Commission's Program Carriage Rules (MB Docket No. 11-131) SUMMARY: The Commission will consider a Further Notice of Proposed Rulemaking and Notice of Proposed Rulemaking that would seek comment on whether to modify the Commission's rules governing the resolution of program carriage disputes between video programming vendors and multichannel video programming distributors.
5 | WIRELINE COMPETITION | TITLE: Eliminating Ex Ante Pricing Regulation and Tariffing of Telephone Access Charges (WC Docket No. 20-71) SUMMARY: The Commission will consider a Notice of Proposed Rulemaking that would propose to (1) eliminate ex ante pricing regulation and require detariffing of various end-user charges associated with interstate access service, and (2) prohibit carriers from separately listing these charges on customers' telephone bills.
6 | MANAGING DIRECTOR | TITLE: Personnel Action #20-1 SUMMARY: The Commission will consider a Personnel Action.
7 | MANAGING DIRECTOR | TITLE: Personnel Action #20-2 SUMMARY: The Commission will consider a Personnel Action.
8 | MANAGING DIRECTOR | TITLE: Personnel Action #20-4 SUMMARY: The Commission will consider a Personnel Action.
9 | MANAGING DIRECTOR | TITLE: Personnel Action #20-5 SUMMARY: The Commission will consider a Personnel Action.

Federal Communications Commission.
Cecilia Sigmund,
Federal Register Liaison Officer, Office of the Secretary.

[FR Doc. 2020-07032 Filed 4-2-20; 8:45 am]

BILLING CODE 6712-01-P